NUCLEAR REGULATORY COMMISSION

[Docket No. 40-8084]

Finding of No Significant Impact and Notice of Availability of the Environmental Assessment Addressing a License Amendment Request To Approve Rio Algom Mining LLC's Erosion Protection Design at Its Lisbon Uranium Mill Tailings Impoundment Located in San Juan County, UT

AGENCY: Nuclear Regulatory Commission.

ACTION: Notice of Availability of an Environmental Assessment and Finding of No Significant Impact.

FOR FURTHER INFORMATION CONTACT: Jill Caverly, Fuel Cycle Facilities Branch, Division of Fuel Cycle Safety and Safeguards, Office of Nuclear Material Safety and Safeguards, U.S. Nuclear Regulatory Commission, Mail Stop T8-A33, Washington DC 20555-0001, telephone (301) 415-6699 and e-mail jsc1@nrc.gov.

SUPPLEMENTARY INFORMATION:

I. Introduction

The U.S. Nuclear Regulatory Commission (NRC) is considering the issuance of an amendment to Rio Algom Mining LLC's (Rio Algom) Source Materials License SUA-1119.

The proposed action updates the erosion control design for reclamation of uranium mill tailings at Rio Algom's Lisbon uranium mill facility near La Sal, Utah. Appendix A, Title 10, U.S. Code of Federal Regulations (10 CFR), Part 40, requires that former uranium mill sites provide protection for 1000 years against forces that will cause erosion or at a minimum of 200 years. Additionally, regulations require that the design should not require active maintenance. The proposed action is in accordance with the licensee's submittal dated September 3, 2002. License Condition 52 of Source Materials License, SUA-1119, requires Rio Algom to provide plans addressing the overall site stability. This submittal is a response to that requirement.

Pursuant to the requirements of 10 CFR Part 51, Environmental Protection Regulations for Domestic Licensing and Related Regulatory Functions, the NRC has prepared an environmental assessment (EA) to evaluate the environmental impacts associated with this request. Based on this evaluation, the NRC has concluded that a Finding of No Significant Impact (FONSI) is appropriate for the proposed licensing action.

II. EA Summary

The EA was prepared to evaluate the environmental impacts associated with Rio Algom's Erosion Control Facility Design for surface erosion at its Lisbon uranium mill facility. This action will result in an amendment to its Source Materials License, SUA-1119, License Condition 52.

The proposed amendment to Source Materials License, SUA-1119, will amend License Condition 52F and verify that Rio Algom's design meets the requirements of 10 CFR Part 40, Appendix A. Criterion 6 of 10 CFR Part 40, Appendix A, requires that uranium mill tailings be disposed of in an area that provides reasonable assurance of control of radiological hazards and be effective for 1000 years to the extent reasonably achievable and, in any case, for at least 200 years. In order to meet this requirement, Rio Algom's design must meet the requirements of its license condition. This includes: (1) Addressing potential for erosive velocities in the soil portion of the spillway channel and rock erosion control design of the swale; (2) revising the erosion protection at the toe of the upper tailings dam; (3) considering scour; (4) reviewing rock apron design; (5) address sedimentation; (6) analyzing natural tributary inflows to the diversion channel; (7) reviewing riprap thickness; (8) analyzing strear stress effects; (9) analyzing rock durability and tests bedrock competency; and (10) devising an inspection for the filter and riprap placement.

The EA evaluated the potential impacts of construction and placement of runoff control features including placement of rock riprap. In addition, the EA addressed environmental impacts for rock placement on the top and side slopes of the tailings impoundment, diversion channels, and transition aprons. Construction impacts due to placement and transport of the rock were also considered.

The proposed action is necessary because the regulations and Rio Algom's license require that an engineered barrier be placed over tailings and byproduct material and that the design meets the requirements of 10 CFR Part 40, Appendix A.

III. Finding of No Significant Impact

Pursuant to 10 CFR Part 51, the NRC has prepared the EA, summarized above. The staff has determined that no significant environmental impacts are expected when the erosion cover is constructed. There will be no significant or additional impacts to the surface features because the erosions protection will be placed on areas where tailings have been covered with an engineered soil barrier and will therefore have no significant effect to wildlife. In addition, the licensee will stabilize areas adjacent to the tailings impoundment where run-off from higher drainage areas enters onto the impoundment but no significant environmental impacts will result from this action.

The proposed NRC approval of the action when combined with known effects on resource areas at the site, including further site remediation, is not anticipated to result in any cumulative impacts at the sites. Therefore, the NRC staff has concluded that there will be no significant environmental impacts on the quality of the human environment and, accordingly, the staff has determined that preparation of an Environmental Impact Statement is not warranted.

IV. Further Information

The EA for this proposed action, as well as the licensee's request, as supplemented, are available electronically for public inspection in the NRC's Public Document Room or from the Publicly Available Records (PARS) component of NRC's document system (ADAMS). ADAMS is accessible from the NRC Web site at http://www.nrc.gov/reading-rm/adams.html. The ADAMS Accession Numbers for the licensee's request, as supplemented, are: ML023020664, ML023020657 and ML040720561. The ADAMS Accession number for the EA is ML041190312. Most of the documents referenced in the EA are also available through ADAMS. Documents can also be viewed electronically on the public computers located at NRC's Public Document Room (PDR), O1 F21, One White Flint, 11555 Rockville Pike, MD 20852. The PDR reproduction contractors will copy documents for a fee. Persons who do not have access to ADAMS, should contact the NRC PDR Reference staff by telephone at 1-800-397-4209, or (301) 415-4737, or by e-mail at pd@nrc.gov.

Dated at Rockville, Maryland, this 5th day of May, 2004.
For the Nuclear Regulatory Commission.
Jill S. Caverly,
Fuel Cycle Facilities Branch, Division of Fuel Cycle Safety and Safeguards, Office of Nuclear Material Safety and Safeguards.

[FR Doc. 04-10733 Filed 5-11-04; 8:45 am]

BILLING CODE 7590-01-P